DEPARTMENT OF COMMERCE

International Trade Administration

[A-570-875]

Non-Malleable Cast Iron Pipe Fittings From the People's Republic of China: Extension of Time Limit for the Preliminary Results of the Antidumping Duty Administrative Review

AGENCY: Import Administration, International Trade Administration, Department of Commerce.

DATES: Effective Date: December 7, 2010.

FOR FURTHER INFORMATION CONTACT: Karine Gziryan, AD/CVD Operations, Office 4, Import Administration, International Trade Administration, U.S. Department of Commerce, 14th Street and Constitution Avenue, NW., Washington, DC 20230; telephone: (202) 482-4081.

SUPPLEMENTARY INFORMATION:

Background

On May 28, 2010, the Department of Commerce (“the Department”) published the initiation of the administrative review of the antidumping duty order on non-malleable cast iron pipe fittings from the People's Republic of China (“PRC”). See Initiation of Antidumping and Countervailing Duty Administrative Reviews, 75 FR 29976, 29983 (May 28, 2010). The period of review is April 1, 2009, through March 31, 2010. The preliminary results of this administrative review are currently due no later than December 31, 2010.

Extension of Time Limit for Final Results of Review

Pursuant to section 751(a)(3)(A) of the Tariff Act of 1930, as amended (“the Act”), the Department shall make a preliminary determination in an administrative review of an antidumping duty order within 245 days after the last day of the anniversary month of the date of publication of the order. Section 751(a)(3)(A) of the Act further provides, however, that the Department may extend the 245-day period to 365 days if it determines it is not practicable to complete the review within the foregoing time period.

The Department determines that it is not practicable to complete the administrative review of non-malleable cast iron pipe fittings from the PRC within the time limits mandated by section 751(a)(3)(A) of the Act because this review involves examining a number of complex issues related to factors of production and surrogate values, as well as requesting and analyzing additional information from NEP Tianjin Machinery Company in a supplemental questionnaire. Therefore, we find that additional time is needed to complete the preliminary results of this administrative review. As a result, in accordance with section 751(a)(3)(A) of the Act, the Department is extending the time period for completion of the preliminary results of this administrative review, which is currently due on December 31, 2010, by 30 days to January 30, 2011.¹ The deadline for the final results of the review continues to be 120 after the publication of the preliminary results.

¹ As the 30-day extension falls on Sunday, January 30, 2011, the deadline for the preliminary results of review will be the next business day, which is January 31, 2011.

This notice is published in accordance with sections 751(a)(3)(A) and 777(i) of the Act.

Dated: November 30, 2010.
Susan H. Kuhbach,
Acting Deputy Assistant Secretary for Antidumping and Countervailing Duty Operations.

[FR Doc. 2010-30666 Filed 12-6-10; 8:45 am]

BILLING CODE 3510-DS-P